NATIONAL HIGHWAY TRAFFIC SAFETY ADMINISTRATION

[Docket No. NHTSA-2020-0102]

Request for Information: Impaired Driving Technologies

AGENCY: National Highway Traffic Safety Administration (NHTSA), DOT.

ACTION: Request for information.

SUMMARY: This notice requests information from interested parties to help inform the agency on available or late stage technology under development for impaired driving detection and mitigation. It also fulfills the Joint Explanatory Statement accompanying the Further Consolidated Appropriations Act, 2020, Public Law 116-94 (2020), which directs NHTSA to facilitate the sharing of information and the implementation and integration of impaired driving technology across the automotive industry.

DATES: Comments must be received on or before January 11, 2021.

ADDRESSES: You may submit comments identified by the docket number in the heading of this document or by using any of the following methods:

• Electronic submissions: Go to http://www.regulations.gov. Follow the online instructions for submitting comments.

• Mail: Docket Management Facility. M-30, U.S. Department of Transportation, 1200 New Jersey Avenue SE, West Building Ground Floor, Room W12-140, Washington, DC 20590.

• Fax: 1-202-493-2251.

Instructions: Comments submitted to the docket should not include any sensitive personal information or confidential business information. Each submission must include the Agency name and the Docket number for this Notice. Note that all comments submitted to the docket, will be posted without change to http://www.regulations.gov including any personal information provided. Please see the Privacy Act heading below.

If you wish to voluntarily submit confidential business information, you should submit two copies of your complete submission electronically to the Chief Counsel, NHTSA, at the address given below under FOR FURTHER INFORMATION CONTACT, with one copy containing the information you claim to be confidential business information, and one copy from which the claimed confidential business information has been deleted. In addition, you should submit one copy, from which you have deleted the claimed confidential business information, to Docket Management at the address given above under ADDRESSES. When you send a comment containing information claimed to be confidential business information to the Chief Counsel, you should follow the procedures set forth in 49 CFR part 512, and include a cover letter setting forth the information specified in our confidential business information regulation, along with the certification required by the regulation. 49 CFR part 512. In addition, you must clearly mark the top of each page of a document containing confidential business information with the word “CONFIDENTIAL.”

• Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

• Docket: For access to the docket to read comments received, go to http://www.regulations.gov or the street address listed above. To be sure someone is there to help you, please call 202-366-9322 before coming. Follow the online instructions for accessing the dockets.

FOR FURTHER INFORMATION CONTACT: Robert Ritter, Office of Impaired Driving and Occupant Protection Division, Office of Research and Program Development, National Highway Traffic Safety Administration, 1200 New Jersey Avenue SE, NPD-100, Room W44-243, Washington, DC 20590. Mr. Ritter's phone number is 202-493-0019, and his email address is Robert.Ritter@dot.gov. To submit confidential business information to the Chief Counsel: Daniel Rabinovitz, Office of Chief Counsel, National Highway Traffic Safety Administration, Daniel.Rabinovitz@dot.gov.

SUPPLEMENTARY INFORMATION: In 2008, the National Highway Traffic Safety Administration (NHTSA) entered into a Cooperative Agreement with the Automotive Coalition for Traffic Safety (ACTS)—representing the majority of automobile manufacturers—to assess and develop alcohol detection technologies that prevent the operation of a vehicle when the driver's blood alcohol concentration (BAC) exceeds the legal limit. This collaborative research partnership is known as the Driver Alcohol Detection System for Safety (DADSS) program. Over the years, the DADSS program made progressive improvements in the development of two in-vehicle technologies that target measuring breath or blood alcohol levels and could help prevent alcohol-impaired drivers from operating their vehicles: A breath-based and a touch-based system. As the DADSS technology progressed, NHTSA also became aware of some market-based driver monitoring systems, some of which may also play a role in addressing safety risks associated with impaired driving.

NHTSA is interested in better understanding the state of technologies in impaired driving detection and mitigation, particularly those targeting alcohol-impaired driving.

Request for Information: This notice requests information to inform NHTSA about the capabilities, limitations, and maturity of currently available technologies or those under advanced stages of development that target impaired driving. The Joint Explanatory Statement accompanying the Further Consolidated Appropriations Act, 2020, Public Law 116-94 (2020), requires NHTSA to facilitate the sharing of this information and the implementation and integration of impaired driving technology across the automotive industry. NHTSA plans to conduct further research on such technologies. To ensure a comprehensive review of these technologies, NHTSA requests interested parties to submit information to the Agency on related technologies that are being researched, developed, or marketed. More specifically, NHTSA seeks information about technologies that can detect degrees of driver impairment through a range of approaches including (1) technologies that can monitor driver action, activity, behavior, or responses, such as vehicle movements during lane keeping, erratic control, or sudden maneuvers; (2) technologies that can directly monitor driver impairment (e.g., breath, touch-based detection through skin); (3) technologies that can monitor a driver's physical characteristics, such as eye tracking or other measures of impairment; and (4) technologies or sensors that aim direct measurement of a driver's physiological indicators that are already linked to forms of impaired driving (e.g., BAC level for alcohol-impaired driving).

NHTSA is interested in information about product specifications; impairment measurement metrics, methods, and systems; impairment classification approaches and capabilities; availability of test results and data that support system capabilities and limitations; advanced sensors; and other technologies that could be used in a vehicle to detect impaired drivers.

Input is also requested about whether and how systems have been validated to date, including human factors issues and user acceptance of proposed approaches. Further, NHTSA requests information on the range of active intervention these technologies are targeted to support in vehicles based on the type and level of impairment estimated, or measured, by the system with respect to the system's confidence in such assessment.

Responses most useful to NHTSA would include specific information about the product capabilities and limitations, the state of its development, its availability and/or current uses. Examples of useful information include vendor contact information; information related to product's marketed capabilities; a description of the approach the technology uses to detect, estimate, or measure driver impairment; product specifications, including physical dimensions, accuracy, tolerance limits, performance characteristics such as temperature limitations, vehicle integration feasibility, and part-life in the automotive environment; closest Technology Readiness Level (TRL) of the technology based on best practices described in the General Accounting Office Technology Readiness Assessment Guide (https://www.gao.gov/assets/710/703694.pdf); any publicly shareable information related to the cost ranges for the unit, its installation, as well as lifetime maintenance; any data related to studies that targeted usability and user acceptance; known technology defeat strategies users may employ; and impairment detection and impairment differentiation capabilities (alcohol-impaired, drug-impaired, distracted, drowsy, etc.), including false-positive and false-negative detection rates. Additionally, NHTSA would like to know how existing technologies have been evaluated in laboratory or field tests or in operational deployments and how positive impairment data was utilized in those studies.

NHTSA encourages commenters to provide information in common file formats, such as Microsoft Word, pdf, or plain text and limit responses to no more than 10 pages, not including appendices.

Authority: 23 U.S.C. 403.

Issued in Washington, DC, under authority delegated by 49 CFR 1.95 and 49 CFR 501.8.
Nanda Narayanan Srinivasan,
Associate Administrator, Research and Program Development.

[FR Doc. 2020-24951 Filed 11-10-20; 8:45 am]

BILLING CODE 4910-59-P